SECURITIES AND EXCHANGE COMMISSION

[Release No. 34-89605; File No. SR-NASDAQ-2020-037]

Self-Regulatory Organizations; The Nasdaq Stock Market LLC; Notice of Withdrawal of a Proposed Rule Change To Adopt a New “Early Market On Close” Order Type

August 18, 2020.

On July 6, 2020, The Nasdaq Stock Market LLC (“Exchange”) filed with the Securities and Exchange Commission (“Commission”), pursuant to Section 19(b)(1) of the Securities Exchange Act of 1934,¹ and Rule 19b-4 thereunder,² a proposed rule change to adopt a new “Early Market On Close” order type. The proposed rule change was published for comment in the Federal Register on July 22, 2020.³ On August 14, 2020, the Exchange withdrew the proposed rule change (SR-NASDAQ-2020-037).

¹ 15 U.S.C. 78s(b)(1).

² 17 CFR 240.19b-4.

³ See Securities Exchange Act Release No. 89334 (July 16, 2020), 85 FR 44333. Comments received on the proposed rule change are available on the Commission's website at: https://www.sec.gov/comments/sr-nasdaq-2020-037/srnasdaq2020037.htm.

For the Commission, by the Division of Trading and Markets, pursuant to delegated authority.⁴
⁴ 17 CFR 200.30-3(a)(12).
J. Matthew DeLesDernier,
Assistant Secretary.

[FR Doc. 2020-18472 Filed 8-21-20; 8:45 am]

BILLING CODE 8011-01-P